ENVIRONMENTAL PROTECTION AGENCY

[ER-FRL-6680-3]

Environmental Impact Statements; Notice of Availability

Responsible Agency: Office of Federal Activities, General Information (202) 564-7167 or http://www.epa.gov/compliance/nepa/.

Weekly receipt of Environmental Impact Statements filed 10/9/2006 through 10/13/2006 pursuant to 40 CFR 1506.9.

EIS No. 20060418, Draft EIS, FHW, WA, East Lake Sammamish Master Plan Trail, Design and Construct an Alternative Non-Motorized Transportation and Multi-Use Recreational Trail, Funding and U.S. Army COE Section 404 Permit, King County, WA, Comment Period Ends: 12/19/2006, Contact: James Leonard 360-753-9408.

EIS No. 20060419, Final EIS, NPS, KY, Abraham Lincoln Birthplace National Historic Site, General Management Plan, Implementation, LaRue County, KY, Wait Period Ends: 11/20/2006, Contact: Amy Wirsching, 404-562-3124.

EIS No. 20060420, Draft Supplement, AFS, IN, German Ridge Restoration Project, New Information on 2006 Land and Resource Management Plan and on the Inadequate Effects Analysis, Implementation, Hoosier National Forest, Tell City Ranger District, Perry County, IN, Comment Period Ends: 12/04/2006, Contact: Ron Ellis, 812-276-4733.

EIS No. 20060421, Final EIS, AFS, OR, Blue Mountain Land Exchange—Oregon Project, Proposed Exchange of Federal and Non-Federal Lands, Malheur, Umatilla, and Wallowa-Whitman National Forests, Baker, Grant, Morrow, Umatilla, Union and Wallowa Counties, OR, Wait Period Ends: 11/20/2006, Contact: Alicia Glassford, 541-426-5689.

EIS No. 20060422, Final EIS, FHW, LA, I-49 South Wax Lake Outlet to Berwick Route US-90, Transportation Improvements, Funding and Right-of-Way Acquisition, St. Mary Parish, LA, Wait Period Ends: 11/27/2006, Contact: William C. Farr 225-757-7615.

EIS No. 20060423, Draft EIS, MMS, AK, Chukchi Sea Planning Area Oil and Gas Lease Sale 193 and Seismic Surveying Activities, Offshore Marine Environment, Chukchi Sea Coastal Plain, and the North Slope Borough of Alaska, Comment Period Ends: 12/26/2006, Contact: Harry Luton, 703-787-1690.

EIS No. 20060424, Final Supplement, FRC, 00, Northeast (NE)-07 Project, Construction and Operation of Natural Gas Pipeline Facilities, Millennium Pipeline Project-Phase I, U.S. Army COE Section 10 and 404 Permits, several counties, NY, Morris County, NJ and Fairfield and New Haven Counties, CT, Wait Period Ends: 11/20/2006, Contact: McLane Layton, 1-866-208-3372.

EIS No. 20060425, Final EIS, AFS, CA, Kings River Project, Proposal to Restore Historical Pre-1850 Forest Conditions, Implementation, High Sierra Ranger District, Sierra National Forest, Fresno County, CA, Wait Period Ends: 11/20/2006, Contact: Ray Porter 559-855-5355.

EIS No. 20060426, Final EIS, AFS, 00, North Zone Range 05 Project, Reauthorizing Livestock Grazing on Eight Existing Allotments, Black Hill National Forest, Bearlodge and Northern Hills Ranger Districts, Crook County, WY and Lawrence County, SD, Wait Period Ends: 11/20/2006, Contact: Alice Allen, 605-673-4853.

EIS No. 20060427, Draft EIS, BLM, NM, Special Status Species Resource Management Plan Amendment, Managing Public Land and Federal Minerals in Portions of Chaves, Eddy, Lea and Roosevelt Counties, NM, Comment Period Ends: 1/8/2007, Contact: Howard Parman, 505-627-0212.

EIS No. 20060428, Final Supplement, STB, MT, Tongue River III Western Alignment Construction and Operation, Alternative Route for the southernmost portion of the 41-mile Ashland to Decker Rail Line, U.S. Army COE Section 404 Permit, Rosebud and Bighorn Counties, MT, Wait Period Ends: 11/20/2006, Contact: Kenneth Blodgett, 202-565-1554.

EIS No. 20060429, Final EIS, UAF, NM, New Mexico Training Initiative, Proposal to Modify the Training Airspace New Cannon Air Force Base (AFB), NM, Wait Period Ends: 11/20/2006, Contact: Jack C. Bush, 703-604-5264.

EIS No. 20060430, Draft EIS, BLM, WY, Eagle Butte West Coal Lease Application, Issuance of Lease for a Tract of Federal Coal, Wyoming Powder River Basin, Campbell County, WY, Comment Period Ends: 12/18/2006, Contact: Nancy Doelger, 307-261-7627.

EIS No. 20060431, Draft EIS, COE, NC, PCS Phosphate Mine Continuation, Proposes Continue Mining of the Phosphate Reserve in an Economically Viable Fashion, Beaufort County, NC, Comment Period Ends: 12/6/2006, Contact: Tom Walker, 838-271-7980 Ext 222.

EIS No. 20060432, Final EIS, NRC, MI, GENERIC—License Renewal of Nuclear Plants, Supplement 27 to NUREG-1437, Regarding Palisade Nuclear Plant (TAC NO. MC6434), Located in Covert Township, Van Buren County, MI, Wait Period Ends: 11/20/2006, Contact: Bo M. Pham, 301-415-8450.

EIS No. 20060433, Final EIS, NOA, 00, Pacific Coast Groundfish Fishery Management Plan, Proposed Acceptable Biological Catch and Optimum Yield Specifications and Management Measures for the 2007-2008 Pacific Coast Groundfish Fishery and Amendment 16-4 Rebuilding Plans for Seven Depleted Pacific Coast Groundfish Species, WA, OR and CA, Wait Period Ends: 11/20/2006, Contact: Robert Lohn, 206-526-6150.

EIS No. 20060434, Draft Supplement, AFS, AK, Kenai Winter Access Project, Updated Information on New Alternative, Develop a Winter Access Management Plan for 2006/2007 Winter Season, Implementation, Seward Ranger District, Chugach National Forest, Located on the Kenai Peninsula in Southcentral, AK, Comment Period Ends: 12/4/2006, Contact: Sharon Randall, 907-743-9497.

Amended Notices

Scott County State Aid Highway (CSAH) 21 Project, Extension from CSAH 42 in Prior Lake to CSAH 18 at Southbridge Parkway in Shakopee, U.S. Army COE Section 404 Permit, Scott County, MN, Comment Period Ends: 11/20/2006, Contact: Cheryl Martin, 651-291-6120.

Revision of FR Notice Published on 9/1/2006: Extending Comment Period from 10/16/2006 to 11/20/2006.

Dated: October 17, 2006.
Ken Mittelholtz,
Environmental Protection Specialist, Office of Federal Activities.

[FR Doc. E6-17516 Filed 10-19-06; 8:45 am]

BILLING CODE 6560-50-P